DEPARTMENT OF THE INTERIOR

National Park Service

[NPS-WASO-CR-NHAP-NPS00; PPWOCRADI0, PCU00RP14.R50000 (222); OMB Control Number 1024-0287]

Agency Information Collection Activities; Submission to the Office of Management and Budget for Review and Approval; National Heritage Areas Program Annual Reporting Forms

AGENCY: National Park Service, Interior.

ACTION: Notice of information collection; request for comment.

SUMMARY: In accordance with the Paperwork Reduction Act of 1995, we, the National Park Service (NPS) are proposing to renew an information collection.

DATES: Interested persons are invited to submit comments on or before May 13, 2024.

ADDRESSES: Written comments and suggestions on the information collection requirements should be submitted by the date specified above in DATES to http://www.reginfo.gov/public/do/PRAMain. Find this particular information collection by selecting “Currently under Review—Open for Public Comments” or by using the search function. Please provide a copy of your comments to the NPS Information Collection Clearance Officer (ADIR-ICCO), 13461 Sunrise Valley Drive (MS 244), Herndon, VA 20171 (mail); or phadrea_ponds@nps.gov (email). Please reference OMB Control Number 1024-0287 in the subject line of your comments.

FOR FURTHER INFORMATION CONTACT: To request additional information about this ICR, contact Elizabeth Vehmeyer, Assistant Coordinator, National Heritage Areas Program, National Park Service, 1849 C Street NW, Mail Stop 7508, Washington, DC 20240 (mail); or at elizabeth_vehmeyer@nps.gov (email) or (202) 354-2215 (telephone). Please reference OMB Control Number 1024-0287 in the subject line of your comments. Individuals in the United States who are deaf, deafblind, hard of hearing, or have a speech disability may dial 711 (TTY, TDD, or TeleBraille) to access telecommunications relay services. Individuals outside the United States should use the relay services offered within their country to make international calls to the point of contact in the United States. You may also view the ICR at http://www.reginfo.gov/public/do/PRAMain.

SUPPLEMENTARY INFORMATION: In accordance with the Paperwork Reduction Act of 1995 (PRA, 44 U.S.C. 3501 et seq.) and 5 CFR 1320.8(d)(1), we provide the general public and other Federal agencies with an opportunity to comment on new, proposed, revised, and continuing collections of information. This helps us assess the impact of our information collection requirements and minimize the public's reporting burden. It also helps the public understand our information collection requirements and provide the requested data in the desired format.

A Federal Register notice with a 60-day public comment period soliciting comments on this collection of information was published on May 15, 2023 (88 FR 31005). No comments were received.

As part of our continuing effort to reduce paperwork and respondent burdens, we are again soliciting comments from the public and other Federal agencies on the proposed ICR that is described below. We are especially interested in public comment addressing the following:

(1) Whether or not the collection of information is necessary for the proper performance of the functions of the agency, including whether or not the information will have practical utility.

(2) The accuracy of our estimate of the burden for this collection of information, including the validity of the methodology and assumptions used.

(3) Ways to enhance the quality, utility, and clarity of the information to be collected.

(4) How might the agency minimize the burden of the collection of information on those who are to respond, including through the use of appropriate automated, electronic, mechanical, or other technological collection techniques or other forms of information technology, e.g., permitting electronic submission of response.

Comments that you submit in response to this notice are a matter of public record. Before including your address, phone number, email address, or other personal identifying information in your comment, you should be aware that your entire comment—including your personal identifying information—may be made publicly available at any time. While you can ask us in your comment to withhold your personal identifying information from public review, we cannot guarantee that we will be able to do so.

Abstract: Authorized by the Historic Sites Act of 1935, as amended (54 U.S.C. Ch. 3201), National Heritage Areas (NHAs) are places where natural, cultural, and historic resources combine to form a cohesive, nationally important landscape. The NHA program includes 49 heritage areas and is administered by NPS coordinators in Washington, DC, and six regional offices—Anchorage, San Francisco, Denver, Omaha, Philadelphia, and Atlanta—as well as local park unit staff.

The NPS uses the following forms to monitor the progress of each heritage area on the implementation of management plans and performance goals:

• 10-320 Annual Program Report—Part I Funding Report, NPS NHA Program Office uses the information collected to allocate funds, prepare the annual NPS Budget Justification, and respond to directives from Congress.

• 10-321 Annual Program Report—Part II Progress Report, NPS NHA Program Office and regional program offices use the information collected to track each heritage area management or coordinating entity's progress on management plan implementation. The NPS uses the information in the annual program reports and publications to inform individual heritage area evaluations.

Title of Collection: National Heritage Areas Program Annual Reporting Forms.

OMB Control Number: 1024-0287.

Form Number: 10-320 and 10-321.

Type of Review: Extension of a currently approved collection.

Respondents/Affected Public: NHA Coordinating Entities: Not-for-profit entities; Federal Commissions; Institutions of Higher Education; State and local governments.

Total Estimated Number of Annual Responses: 110.

Estimated Completion Time per Response: Varies; from 10 to 45 hours, depending on activity and type of form.

Total Estimated Number of Annual Burden Hours: 3,025.

Respondent's Obligation: Required to obtain or retain a benefit.

Frequency of Collection: Annually.

Total Estimated Annual Nonhour Burden Cost: None.

An agency may not conduct or sponsor and a person is not required to respond to a collection of information unless it displays a currently valid OMB control number.

The authority for this action is the Paperwork Reduction Act of 1995 (44 U.S.C. 3501 et seq.).

Phadrea Ponds,
Information Collection Clearance Officer, National Park Service.

[FR Doc. 2024-07699 Filed 4-10-24; 8:45 am]

BILLING CODE 4312-52-P